DEPARTMENT OF THE INTERIOR

Fish and Wildlife Service

[FWS-R7-2008-N0093]

Koyukuk/Nowitna National Wildlife Refuges, Galena, AK

AGENCY: Fish and Wildlife Service, Interior.

ACTION: Notice of Availability of the Draft Revised Comprehensive Conservation Plan and Environmental Assessment for Koyukuk, Northern Unit Innoko, and Nowitna National Wildlife Refuges; request for comments.

SUMMARY: We, the Fish and Wildlife Service (Service), announce the availability of a draft revised comprehensive conservation plan (Draft CCP) and environmental assessment (EA) for the Koyukuk, Northern Unit Innoko, and Nowitna National Wildlife Refuges (Refuge) is available for public review and comment. In this Draft CCP and EA we describe two alternatives, including our preferred action, to manage the Refuge for the next 15 years. Also available for public review and comment are draft compatibility determinations.

DATES: Comments on the Draft CCP and EA must be received on or before December 15, 2008.

ADDRESSES: You may view or obtain copies of the Draft CCP and EA by any of the following methods. You may request a paper copy, a summary, or a CD-ROM containing both.

Agency Web Site: Download a copy of the documents at http://alaska.fws.gov/nwr/planning/plans.htm.

E-mail: FW7_Koyukuk/Nowitna_planning@fws.gov. Please include “Revised CCP” in the subject line of the message.

Mail: Robert Lambrecht, Planning Team Leader, U.S. Fish and Wildlife Service, P.O. Box 287, Galena, Alaska 99741.

In-Person Viewing or Pickup: Call (907) 786-3357 to make an appointment during regular business hours at the USFWS Regional Office, 1011 E. Tudor Road, Anchorage AK 99053 or call (907) 656-1231 to make an appointment during business hours at the Koyukuk/Nowitna Refuge in Galena, AK.

FOR FURTHER INFORMATION, CONTACT: Robert Lambrecht at the address above or (907) 656-1231; fax: (907) 656-1708; or fw7_Koyukuk/Nowitna_planning@fws.gov.

SUPPLEMENTARY INFORMATION:

Introduction

With this notice, we continue the CCP process for Koyukuk, Northern Unit Innoko, and Nowitna National Wildlife Refuges. We started this process through a notice in the Federal Register (72 FR 57343; October 9, 2007).

Background

The ANILCA (16 U.S.C. 410hh et seq., 43 U.S.C. 1602 et seq.) requires development of a CCP for all national wildlife refuges in Alaska. The Draft CCP and EA for the Refuge was developed consistent with Section 304(g) of ANILCA and the Refuge Administration Act as amended by the Refuge Improvement Act (16 U.S.C. 668dd et seq.). The purpose of developing CCPs is to provide refuge managers with a 15-year management strategy for achieving refuge purposes and contributing to the mission of the National Wildlife Refuge System, consistent with sound principles of fish, wildlife, and habitat management and conservation; legal mandates; and Service policies. Plans define long-term goals and objectives toward which refuge management activities are directed and identify which uses may be compatible with the purposes of the refuge. They identify wildlife-dependent recreation opportunities available to the public, including hunting, fishing, wildlife observation and photography, and environmental education and interpretation. Comprehensive conservation plans are updated in accordance with planning direction in Section 304(g) of ANILCA and with NEPA (42 U.S.C. 4321 et seq.).

Background: In 1980, ANILCA designated the Koyukuk, Northern Unit Innoko, and Nowitna National Wildlife Refuges. Refuge boundaries encompass approximately 7.329 million acres of which approximately 6.044 million acres (82 percent) are under Service jurisdiction. Section 302(3)(B) of ANILCA states that the purposes for which the Refuge was established include: (i) To conserve fish and wildlife populations and habitats in their natural diversity; (ii) to fulfill international treaty obligations of the United States with respect to fish and wildlife and their habitats; (iii) to provide the opportunity for continued subsistence use by local residents; and (iv) to ensure water quality and necessary water quantity within the Refuge. CCPs and Environmental Impact Statements were completed for the Refuge in 1987 following direction in Section 304(g) of ANILCA.

The ANILCA requires us to designate areas according to their respective resources and values and to specify programs and uses within the areas designated. To meet this requirement, the Alaska Region established management categories (Minimal, Moderate, Intensive, Wilderness, and Wild River). Appropriate activities, public uses, commercial uses, and facilities are identified for each management category. Three management categories (Minimal, Wilderness, and Wild River) apply to the Refuge.

The 1997 Refuge Improvement Act includes additional direction for conservation planning throughout the National Wildlife Refuge System. This direction has been incorporated into national planning policy for the National Wildlife Refuge System, including refuges in Alaska. This draft revision of the Koyukuk, Northern Unit Innoko, and Nowitna CCP/EA meets the requirements of both ANILCA and the Refuge Administration Act as amended by the Refuge Improvement Act.

Issues raised during scoping and addressed in the Draft CCP/EA are (1) Management of wildlife populations, especially moose; (2) future off-refuge mining, oil, and gas developments; (3) contaminants and their effects on wild foods and water quality; (4) the effects of climate change; (5) maintaining the wild character of the Refuge and wilderness quality; (6) future public use; (7) how the fire management program can help villages address their hazardous fuel accumulations; and (8) the need for more outreach and better communication with the public.

The Draft CCP and EA describe and evaluate two alternatives for managing the Refuge for the next 15 years. These alternatives follow much of the same general management direction. Alternative A (the No-Action Alternative) is required under NEPA and describes continuation of current management activities. Alternative A serves as a baseline against which to compare the other alternative. Under Alternative A, management of the Refuge would continue to follow direction described in the 1987 CCPs and records of decision as modified by subsequent program-specific plans (e.g., fisheries, cultural resources, and fire management plans). Currently 91 percent of the Refuge is in Minimal management, 7 percent is designated Wilderness, and 2 percent is in Wild River management. Alternative A would continue to protect and maintain the existing wildlife values, natural diversity, and ecological integrity of the Refuge. Human disturbances to fish and wildlife habitats and populations would be minimal. Private and commercial uses of the Refuge would not change, and public uses employing existing access methods would continue to be allowed. Opportunities to pursue traditional subsistence activities, and recreational hunting, fishing, and other wildlife dependent activities, would be maintained. Opportunities to pursue research would be maintained. Alternative B (the Proposed Action) would generally continue to follow management direction described in the 1987 CCPs and records of decision as modified by subsequent program-specific plans, but some of that management direction has been updated by changes in policy since the 1987 Koyukuk and Northern Unit Innoko and Nowitna Refuge CCPs were approved. Alternative B identifies these specific changes in management direction as well as goals and objectives for Refuge management.

Public Meetings

We will continue to involve the public through open houses, meetings and comments. We will mail notices of availability to our Refuge mailing list. Public meetings will be held in the following Refuge area communities: Galena, Hughes, Huslia, Kaltag, Koyukuk, Nulato, Ruby, and Tanana. Details will be announced locally in advance of each meeting.

Public Availability of Comments

Before including your name, address, phone number, e-mail address, or other personal identifying information in your comment, you should be aware that your entire comment—including your personal identifying information—may be made publicly available at any time. While you can ask us in your comment to withhold your personal identifying information from public review, we cannot guarantee that we will be able to do so. We will make all comments from individual persons part of the official public record. We will handle requests for such comments in accordance with the Freedom of Information Act, NEPA, and Departmental policies and procedures.

Dated: September 29, 2008.
Gary Edwards,
Acting Regional Director, U.S. Fish and Wildlife Service, Anchorage, Alaska.

[FR Doc. E8-23526 Filed 10-3-08; 8:45 am]

BILLING CODE 4310-55-P